DELAWARE RIVER BASIN COMMISSION

Notice of Proposed Methodology for the 2024 Delaware River and Bay Water Quality Assessment Report

AGENCY: Delaware River Basin Commission.

ACTION: Notice.

SUMMARY: Notice is hereby given that the methodology proposed to be used in the 2024 Delaware River and Bay Water Quality Assessment Report is available for review and comment.

DATES: Written comments on the assessment methodology or recommendations for the consideration of data sets will be accepted through 5 p.m. EST on February 1, 2024.

ADDRESSES: Written comments may be submitted through the Commission's web-based comment system, a link to which is provided at www.drbc.gov. All submissions should include the name and address (street address optional) of the commenter. Exceptions to use of the web-based comment system are available based on need, by writing to the attention of the Commission Secretary, DRBC, P.O. Box 7360, 25 Cosey Road, West Trenton, NJ 08628-0360. For assistance, please contact Patricia Hausler at patricia.hausler@drbc.gov.

FOR FURTHER INFORMATION CONTACT: Mr. Jacob Bransky, Senior Aquatic Biologist, jacob.bransky@drbc.gov, 609-477-7230.

SUPPLEMENTARY INFORMATION: The Delaware River Basin Commission (“DRBC” or “Commission”) is a Federal-interstate compact agency that was created in 1961 by concurrent legislation of the States of Delaware, New Jersey, and New York, the Commonwealth of Pennsylvania and the United States Government for purpose of jointly managing the water resources of the Delaware River Basin.

DRBC currently is compiling data for the 2024 Delaware River and Bay Water Quality Assessment Report (“2024 Assessment”) required by the federal Clean Water Act (“CWA”). The 2024 Assessment will present the extent to which waters of the Delaware River and Bay are attaining designated uses in accordance with section 305(b) of the CWA and the Commission's Water Quality Regulations (incorporated by reference at 18 CFR part 410), and will identify impaired waters, which consist of waters in which surface water quality standards are not being met.

The proposed assessment methodology to be used in the 2024 Assessment is available for review at the following URL: https://www.nj.gov/drbc/library/documents/WQAssessment2024MethodologyDRAFToct2023.pdf.

Authority: Delaware River Basin Compact, Public Law 87-328, Approved September 27, 1961, 75 Statutes at Large, 688, sec's 3.6(c), 3.6(h), 3.9, 3.9(a), 3.9(d), and 5.1.

Dated: October 18, 2023.
Pamela M. Bush,
Commission Secretary.

[FR Doc. 2023-24279 Filed 11-2-23; 8:45 am]

BILLING CODE P